NUCLEAR REGULATORY COMMISSION

[Docket No. 030-00883]

Notice of Availability of Environmental Assessment and Finding of No Significant Impact for License Amendment for Rutgers, the State University of New Jersey, J. B. Smith Hall Building in New Brunswick, NJ

AGENCY: Nuclear Regulatory Commission.

ACTION: Notice of availability of Environmental Assessment and Finding of No Significant Impact.

FOR FURTHER INFORMATION CONTACT: Randolph C. Ragland, Jr., Decommissioning & Laboratory Branch, Division of Nuclear Materials Safety, Region I, 475 Allendale Road, King of Prussia, Pennsylvania 19406, telephone (610) 337-5083, fax (610) 337-5269; or by e-mail: rcr1@nrc.gov.

SUPPLEMENTARY INFORMATION:

I. Introduction

The Nuclear Regulatory Commission (NRC) is considering the issuance of a license amendment to Materials License No. 29-05218-28 issued to Rutgers, the State University of New Jersey, licensee, to authorize release of their J. B. Smith Hall building, on Cook Campus, in New Brunswick, NJ for unrestricted use. NRC has prepared an Environmental Assessment (EA) in support of this action in accordance with the requirements of 10 CFR part 51. Based on the EA, the NRC has concluded that a Finding of No Significant Impact (FONSI) is appropriate. The amendment will be issued following the publication of this notice.

II. EA Summary

The purpose of the proposed action is to authorize the release of the licensee's J. B. Smith Hall building, on their Cook Campus in New Brunswick, NJ for unrestricted use. Rutgers University was authorized by NRC from the 1970s to use radioactive materials for laboratory research and training purposes at the site. On November 21, 2003, Rutgers University requested that NRC release the facility for unrestricted use. Rutgers University has conducted surveys of the facility and provided information to the NRC to demonstrate that the site meets the license termination criteria in subpart E of 10 CFR part 20 for unrestricted release.

The NRC staff has prepared an EA in support of the proposed license amendment. The staff evaluated Rutgers University's request and the results of the surveys and has concluded that the completed action complies with the criteria in subpart E of 10 CFR part 20.

III. Finding of No Significant Impact

The staff has prepared the EA, summarized above, in support of the proposed license amendment to release the J. B. Smith Hall for unrestricted use. The staff has found that the environmental impacts from the proposed action are bounded by the impacts evaluated by the “Generic Environmental Impact Statement in Support of Rulemaking on Radiological Criteria for License Termination of NRC-Licensed Facilities” (NUREG-1496). The staff has also found that the non-radiological impacts are not significant. On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML040790360, ML033300511, ML040710910, ML040710882). These documents may also be viewed electronically on the public computers located at the NRC's Public Document Room (PDR), O 1F21, One White Flint North, 11555 Rockville Pike, Rockville, MD 20852. The PDR reproduction contractor will copy documents for a fee. These documents are also available for inspection and copying for a fee at the Region I Office, 475 Allendale Road, King of Prussia, Pennsylvania, 19406. Persons who do not have access to ADAMS, should contact the NRC PDR Reference staff by telephone at 1-800-397-4209 or (301) 415-4737, or by e-mail to pdr@nrc.gov.

Dated in King of Prussia, Pennsylvania this 22nd day of March, 2004.
For the Nuclear Regulatory Commission.
Ronald R. Bellamy,
Chief, Decommissioning & Laboratory Branch, Division of Nuclear Materials Safety, Region I.

[FR Doc. E4-692 Filed 3-26-04; 8:45 am]

BILLING CODE 7590-01-P